DEPARTMENT OF COMMERCE

Foreign-Trade Zones Board

[B-07-2018]

Foreign-Trade Zone (FTZ) 49—Newark, New Jersey; Authorization of Production Activity; Movado Group, Inc. (Timepieces and Jewelry); Moonachie, New Jersey

On January 31, 2018, Movado Group, Inc. submitted a notification of proposed production activity to the FTZ Board for its facility within Subzone 49J, in Moonachie, New Jersey.

The notification was processed in accordance with the regulations of the FTZ Board (15 CFR part 400), including notice in the Federal Register inviting public comment (83 FR 5987, February 12, 2018). On May 31, 2018, the applicant was notified of the FTZ Board's decision that no further review of the activity is warranted at this time. The production activity described in the notification was authorized, subject to the FTZ Act and the FTZ Board's regulations, including Section 400.14.

Dated: May 31, 2018.
Andrew McGilvray,
Executive Secretary.

[FR Doc. 2018-12147 Filed 6-5-18; 8:45 am]

BILLING CODE 3510-DS-P